DEPARTMENT OF TRANSPORTATION

Federal Aviation Administration

14 CFR Part 71

[Docket No. FAA-2004-17143; Airspace Docket No. 04-ACE-9]

Modification of Class E Airspace; Iowa City, IA

Correction

In rule document 04-9397 appearing on page 22395 in the issue of Monday, April 26, 2004, the docket number is corrected to read as set forth above.

[FR Doc. C4-9397 Filed 4-30-04; 8:45 am]

BILLING CODE 1505-01-D

DEPARTMENT OF TRANSPORTATION

Federal Aviation Administration

14 CFR Part 39

[Docket No. 2004-CE-09-AD; Amendment 39-13587; AD 2004-08-17]

RIN 2120-AA64

Airworthiness Directives; Cessna Aircraft Company Models 208 and 208B Airplanes

Correction

In rule document 04-9115 beginning on page 22392 in the issue of Monday, April 26, 2004, make the following correction:

§39.13 [Corrected]

On page 22393, in §39.13, under the heading What Must I do To Address This Problem?, in the table, in the entry labled Compliance, in the first paragraph, the date “May 14, 2004” should read, “May 17, 2004”.

[FR Doc. C4-9115 Filed 4-30-04; 8:45 am]

BILLING CODE 1505-01-D